DEPARTMENT OF THE INTERIOR

National Park Service

General Management Plan and Environmental Impact Statement, Lake Meredith National Recreation Area and Alibates Flint Quarries National Monument, TX

AGENCY: National Park Service, Department of the Interior.

ACTION: Notice of intent to prepare an environmental impact statement for the general management plan (GMP), Lake Meredith National Recreation Area and Alibates Flint Quarries National Monument.

SUMMARY: Pursuant to the National Environmental Policy Act of 1969, 42 U.S.C. 4332(2)(C), the National Park Service (NPS) is preparing an environmental impact statement for a general management plan for Lake Meredith National Recreation Area and Alibates Flint Quarries National Monument, Texas. The environmental impact statement will be approved by the Director, Intermountain Region.

The general management plan will prescribe the resource conditions and visitor experiences that are to be achieved and maintained in the national recreation area and the national monument over the next 15 to 20 years. The clarification of what must be achieved according to law and policy will be based on review of the national recreation area and the national monument's purpose, significance, special mandates, and the body of laws and policies directing management at NPS units. Based on determinations of desired conditions, the general management plan will outline the kinds of resource management activities, visitor activities, and development that would be appropriate in the future. A range of reasonable management alternatives will be developed through this planning process and will include, at a minimum, a no-action and a preferred alternative.

The NPS is required to prepare a GMP for all NPS units. The last management plan prepared for Lake Meredith National Recreation Area was completed in 1985 and the last masterplan prepared for Alibates Flint Quarries National Monument was completed in 1978. These plans do not address changes in recreational use patterns related to changes in the water level at Lake Meredith, current resource management and visitor access issues at either unit, or current NPS park planning standards or NPS management policies. Because the national recreation area and the national monument are managed jointly, a single GMP will be prepared to cover both units.

Issues to be addressed will include, but are not limited to the following: The management of visitor use and access into the national recreation area and the national monument, as well as facilities, interpretation, natural and cultural resources, and operations in the national recreation area and national monument.

A scoping newsletter will be prepared that describes the issues identified to date. Copies of the newsletter may be obtained at the Lake Meredith National Recreation Area and Alibates Flint Quarries National Monument Headquarters 419 E. Broadway, Fritch, Texas 79036, Phone: 806-857-3151, the Alibates Flint Quarries National Monument Visitor Contract Station on Cas Johnson Road, the national recreation area Web site http://www.nps.gov/lamr, or on the Planning, Environment, and Public Comment (PEPC) Web site at http://parkplanning.nps.gov/lamr.

DATES: Any comments on the scope of issues to be addressed in the plan should be submitted no later than 60 days after publication of this notice. In addition to the newsletter, public meetings regarding the general management plan will be held during the scoping period. Specific dates, times, and locations will be made available in the local media, on the National Park Service Planning, Environment, and Public Comment (PEPC) Web site (http://parkplanning.nps.gov/lamr), or by contacting the Superintendent of Lake Meredith National Recreation Area and Alibates Flint Quarries National Monument.

ADDRESSES: Information will be available for public review and comment online at http://parkplanning.nps.gov/lamr, at the Lake Meredith National Recreation Area and Alibates Flint Quarries National Monument Headquarters 419 E. Broadway, Fritch, Texas 79036, Phone: 806-857-3151.

FOR FURTHER INFORMATION CONTACT: Cindy Ott-Jones, Superintendent, Lake Meredith National Recreation Area and Alibates Flint Quarries National Monument Headquarters P.O. Box 1460, Fritch, Texas 79036, Phone: 806-857-3151 or by e-mail at LAMR_GMP@nps.gov.

SUPPLEMENTARY INFORMATION: Public and agency involvement will be solicited at several key steps in the planning process including initial scoping, alternatives development, and the draft plan. If you wish to comment on any issues associated with the plan, you may submit your comments to the planning team by any one of several methods. You may mail comments to Lake Meredith National Recreation Area and Alibates Flint Quarries National Monument, Office of the Superintendent, P.O. Box 1460, Fritch, Texas 79036. You may also comment via the Internet at http://parkplanning.nps.gov/lamr. Finally, you may hand-deliver comments to the headquarters building at 419 E. Broadway, Fritch, Texas 79036. Before including your address, phone number, e-mail address, or other personal identifying information in your comment, you should be aware that your entire comment—including your personal identifying information—may be made publicly available at any time. While you can ask us in your comment to withhold your personal identifying information from public review, we cannot guarantee that we will be able to do so. In addition, we will make all submissions from organizations or businesses, and from individuals identifying themselves as representatives or officials of organizations or businesses, available for public inspection in their entirety.

Dated: January 12, 2009.
Michael D. Snyder,
Director, Intermountain Region, National Park Service.

Editorial Note: This document was received in the Office of the Federal Register on June 3, 2009.

[FR Doc. E9-13326 Filed 6-8-09; 8:45 am]

BILLING CODE 4310-3A-M